DEPARTMENT OF THE INTERIOR

Office of the Special Trustee for American Indians

[13XD0120AF DST000000.54AB00 DT20400000]

Notice of Proposed Renewal of Information Collection: Trust Funds for Tribes and Individual Indians

AGENCY: Office of the Secretary, Office of the Special Trustee for American Indians, Interior.

ACTION: Notice and request for comments.

SUMMARY: In compliance with section 3506(c)(2)(A) of the Paperwork Reduction Act of 1995, the Office of the Special Trustee for American Indians, Department of the Interior, is announcing its intention to request renewal approval for the collection of information for “Trust Funds for Tribes and Individual Indians, 25 CFR 115,” OMB Control No. 1035-0004. This collection request has been forwarded to the Office of Management and Budget (OMB) for review and approval. The information collection request (ICR) describes the nature of the information collection and the expected burden and cost.

DATES: OMB has up to 60 days to approve or disapprove the information collection request, but may respond after 30 days; therefore, public comments should be submitted to OMB by July 11, 2013, in order to be assured of consideration.

ADDRESSES: Submit comments to the Office of Information and Regulatory Affairs, Office of Management and Budget, Attention: Desk Officer for the Department of the Interior (1035-0004), by telefax at (202) 395-5806 or via email to OIRA_submission@omb.eop.gov. Also, please send a copy of your comments to Helen Riggs, Office of the Special Trustee for American Indians, 4400 Masthead Street NE., Albuquerque, NM 87109 or email them to: helen_riggs@ost.doi.gov. Individuals providing comments should reference “Trust Funds for Tribes and Individual Indians, 25 CFR 115,” OMB Control No. 1035-0004.

FOR FURTHER INFORMATION CONTACT: To request more information on this information collection or to obtain a copy of the collection instrument, please write or call Helen Riggs at telephone number 505-816-1131, or send email to helen_riggs@ost.doi.gov. To see a copy of the entire ICR submitted to OMB, go to: http://www.reginfo.gov and select Information Collection Review, Currently Under Review.

SUPPLEMENTARY INFORMATION:

I. Abstract

Office of Management and Budget (OMB) regulations at 5 CFR 1320, which implement the Paperwork Reduction Act of 1995 (Pub. L. 104-131), require that interested members of the public and affected parties have an opportunity to comment on information collection and recordkeeping activities (see 5 CFR 1320.8(d)). This notice identifies an information collection activity that the Office of the Special Trustee for American Indians has submitted to OMB for renewal.

Public Law 103-412, The American Indian Trust Fund Management Reform Act of 1994 (the Reform Act) makes provisions for the Office of the Special Trustee for American Indians to administer trust fund accounts for individuals and tribes. The collection of information is required to facilitate the processing of deposits, investments, and distribution of monies held in trust by the U.S. Government and administered by the Office of the Special Trustee for American Indians. The collection of information provides the information needed to establish procedures to: deposit and retrieve funds from accounts, perform transactions such as cashing checks, reporting lost or stolen checks, stopping payment of checks, and general verification for account activities.

The Office of Special Trustee for American Indians has revised the application form to include a section to provide the applicant the ability to direct deposit to either a checking or savings account and the means by which the Automated Clearing House (ACH) notifications will be sent.

II. Data

(1) Title: Trust Funds for Tribes and Individuals Indians, 25 CFR 115.

OMB Control Number: 1035-0004.

Current Expiration Date: July 31, 2013.

Type of Review: Information Collection Renewal.

Affected Entities: Individual Indians and Tribes who wish to initiate some activity on their accounts.

Estimated annual number of respondents: 323,034

Frequency of response: 1.

(2) Annual reporting and record keeping burden:

Total annualized reporting per respondent: ¼ hour

Total annualized reporting: 80,759 hours.

(3) Description of the need and use of the information: This information collection is used to process deposits, investments, and distribution of monies held in trust by the Special Trustee for individual Indians in the administration of these accounts. The respondents submit information in order to gain or retain a benefit, namely, access to funds held in trust.

(4) As required under 5 CFR 1320.8(d), a Federal Register notice soliciting comments on the information collection was published on March 27, 2013 (78 FR 18623). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information techniques.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

If you wish us to withhold your personal information, you must prominently state at the beginning of your comment what personal information you want us to withhold. We will honor your request to the extent allowable by law. An agency may not conduct or sponsor, and a person is not required to respond to, a collection of information unless it displays a currently valid Office of Management and Budget control number.

Dated: May 31, 2013.
Margaret Williams,
Regional Trust Administrator—Field Operations, Office of the Special Trustee for American Indians.

[FR Doc. 2013-13776 Filed 6-10-13; 8:45 am]

BILLING CODE 4310-2W-P